DEPARTMENT OF AGRICULTURE

Submission for OMB Review; Comment Request

November 23, 2016.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by December 29, 2016 will be considered. Written comments should be addressed to: Desk Officer for Agriculture, Office of Information and Regulatory Affairs, Office of Management and Budget (OMB), New Executive Office Building, 725 17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Rural Business Cooperative Service

Title: Rural Cooperative Development Grants—7 CFR 4284-F.

OMB Control Number: 0570-0006.

Summary of Collection: Section 310B of the Consolidated Farm and Rural Development Act (as amended) (Pub. L. 107-171) authorizes the Rural Cooperative Development Grants (RCDG) program. The program is administered through State Rural Development Offices on behalf of the Rural Business Cooperative Service (RBS). The primary objective of the program is to improve the economic condition of rural areas through cooperative development. Grant funds are awarded on a competitive basis using a scoring system that gives preference to applications that demonstrate a proven track record. The applicants, who are non-profit corporations or institutions of higher education, will provide information using various forms and supporting documentation.

Need and Use of the Information: Information is collected by RBS and Rural Development State and Area office staff, as delegated, from applicants and grantees. RBS will use the information collected to evaluate the applicant's ability to carry out the purposes of the program. Grantees are required to submit financial status and performance reports to confirm funds are being expended as approved and requests for advance or reimbursement to request payment. If this information were not collected, RBS would have no basis on which to evaluate the relative merit of each application.

Description of Respondents: Not for profit institutions.

Number of Respondents: 55.

Frequency of Responses: Recordkeeping; Reporting: On occasion.

Total Burden Hours: 6,342.

Charlene Parker,
Departmental Information Collection Clearance Officer.

[FR Doc. 2016-28677 Filed 11-28-16; 8:45 am]

BILLING CODE 3410-XY-P